DEPARTMENT OF HOUSING AND URBAN DEVELOPMENT

[Docket No. FR-6003-N-07]

60-Day Notice of Proposed Information Collection: Evaluation of the HUD-DOJ Pay for Success Permanent Supportive Housing Demonstration

AGENCY: Office of Policy Development and Research, HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: October 24, 2017.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone (202) 402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Evaluation of the HUD-DOJ Pay for Success Permanent Supportive Housing Demonstration.

OMB Approval Number: Pending.

Type of Request: New.

Agency Form Numbers: No agency forms will be used.

Description of the need for the information and proposed use: The U.S. Departments of Housing and Urban Development (HUD) and Justice (DOJ) entered into an interagency collaboration that combines DOJ's mission to promote safer communities by focusing on the reentry population with HUD's mission to end chronic homelessness. This collaboration resulted in the Pay for Success Permanent Supportive Housing Demonstration with $8.68M awarded to seven communities to develop supportive housing for persons cycling between the jail or prison systems and the homeless service systems using pay for success (PFS) as a funding mechanism. HUD-DOJ announced seven grantees from across the country in June 2016. The PFS Demonstration grant supports activities throughout the PFS lifecycle, including feasibility analysis, transaction structuring, and outcome evaluation and success payments, with each grantee receiving funds for different stages in the PFS lifecycle. Through the national evaluation, which is funded through an interagency agreement between HUD and DOJ and managed by HUD's Office of Policy Development and Research, HUD-DOJ seek to assess whether PFS is a viable model for scaling supportive housing to improve outcomes for a re-entry population. The main goal of the evaluation is to learn how the PFS model is implemented in diverse settings with different structures, populations, and community contexts. The Urban Institute has designed a multi-disciplinary, multi-method approach to “learn as we do” and meet the key objectives of the formative evaluation. To understand project implementation, the evaluation includes data collection on both the time that project partners dedicate to each PFS project as well as PFS partner perceptions and interactions and community-level changes that may benefit the target population. This information collection request is for an ongoing time survey and an annual partnership web survey. The time survey will be used to assess staff time spent on development of each PFS project throughout the different lifecycle phases and the partnership survey will be used to document partner perceptions and interactions and community-level changes that may benefit the target population.

Respondents: For the annual web-based partnership survey and weekly time text survey, 100 respondents from the grantee and key project partner at 7 demonstration sites. For the monthly web-based time survey, 35 supervisory staff.

Estimated total number of hours needed to prepare the information collection including number of respondents, frequency of response, hours of response, and cost of response time: Based on the below assumptions and tables, we calculate the annual burden hours for the study to be 266.74 hours and the annual cost to be $7,123.92 and the total burden hours for the first three years of this study to be 800.22 hours and the total cost for the first three years to be $21,371.76. Whereas the typical key project partner role is either a management or support role, we estimated the cost per response using the average of the most recent (May 2015) Bureau of Labor Statistics, Occupational Employment Statistics median hourly wages for the labor categories Social and Community Services Manager (11-9151) with a median hour wage of $30.54 and Community and Social Service Specialist, All Other (21-1099) with a rate of $20.14. For the annual partnership survey and weekly text time survey, we averaged the median hourly wage for the two labor categories; this produces an average of both median hourly wage rates equal to $25.34. For the monthly supervisory time survey, we used only the Social and Community Services Manager rate.

Respondent | Occupation | SOC Code | Median hourly wage rate | Average (median) hourly wage rate
HUD-DOJ PFS Key Project Partners | Social and Community Services Manager Community and Social Service Specialist, All Other | 11-9151 21-1099 | $30.54 20.14 | $25.34
HUD-DOJ PFS Supervisors | Social and Community Services Manager | 11-9151 | 30.54 |
Source: Bureau of Labor Statistics, Occupational Employment Statistics (May 2015), https://www.bls.gov/oes/current/oes_stru.htm.

To produce a basic hourly rate, we divided the average median annual income amount by 1,950 work hours per year, equaling 5 days at 37.5 hours per week for each of the 52 weeks of the year.

All assumptions are reflected in the table below.

Information collection | Number of respondents | Frequency of response | Burden hour per response | Annual burden hours | Hourly cost per response | Total cost
HUD-DOJ PFS Key Project Partners (Annual web-based partnership survey) | 100 | 1 | 0.25 | 25 | 25.34 | $633.50
HUD-DOJ PFS Key Project Partners (Weekly text time survey) | 100 | 52 | 0.033 | 171.6 | 25.34 | 4,348.34
HUD-DOJ PFS Supervisors (Monthly web-based time survey) | 35 | 12 | 0.167 | 70.14 | 30.54 | 2,142.08
Total | 235 |  |  | 266.74 |  | 7,123.92

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses. HUD encourages interested parties to submit comment in response to these questions.

Authority: Section 3507 of the Paperwork Reduction Act of 1995, 44 U.S.C. Chapter 35.

Dated: July 20, 2017.
Matthew E. Ammon,
General Deputy Assistant, Secretary for Policy Development and Research.

[FR Doc. 2017-18102 Filed 8-24-17; 8:45 am]

BILLING CODE 4210-67-P